DEPARTMENT OF COMMERCE

National Oceanic and Atmospheric Administration

RIN 0648-XK48

Western Pacific Fishery Management Council; Public Meetings

AGENCY: National Marine Fisheries Service (NMFS), National Oceanic and Atmospheric Administration (NOAA), Commerce.

ACTION: Notice of public meetings.

SUMMARY: This notice advises the public that the Western Pacific Fishery Management Council (Council) will convene a meeting of its Social Science Research Planning Committee in Honolulu, HI.

DATES: The meeting will be held Monday, October 13, 2008, from 9 a.m. until 12 noon.

ADDRESSES: The meeting will be held at the Council office at 1164 Bishop Street, Suite 1400, Honolulu, HI 96813.

FOR FURTHER INFORMATION CONTACT: Kitty M. Simonds, Executive Director; telephone: (808) 522-8220.

SUPPLEMENTARY INFORMATION: The agenda for the meeting is as follows:

1. Introductions

2. Overview of Recent and Current Research Projects

3. Summary of Traditional and Small-Scale Fisheries Issues Considered to Date

4. Discussion of Additional or Place-Specific Issues to Consider

5. Summary of Strawman Alternative

6. Discussion of Strawman and Other Potential Alternatives

7. Public Comment

8. Recommendations for Needed Social Science Research/Analysis Regarding this Issue

9. Other Business

The order in which agenda items are addressed may change. The Committee will meet as late as necessary to complete scheduled business.

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under Section 305 (c) of the Magnuson-Stevens Act, provided the public has been notified of the Council's intent to take final action to address the emergency.

Special Accommodations

This meeting is physically accessible to people with disabilities. Requests for sign language interpretation or other auxiliary aids should be directed to Kitty M. Simonds, (808) 522-8220 (voice) or (808) 522-8226 (fax), at least 5 days prior to the meeting date.

Authority: 16 U.S.C. 1801 et seq.

Dated: September 10, 2008.
Tracey L. Thompson,
Acting Director, Office of Sustainable Fisheries, National Marine Fisheries Service.

[FR Doc. E8-21404 Filed 9-12-08; 8:45 am]

BILLING CODE 3510-22-S